ENVIRONMENTAL PROTECTION AGENCY

[EPA-HQ-OPPT-2006-0966; FRL-8106-6

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from September 18, 2006 to October 13, 2006, consists of the PMNs and TMEs, both pending or expired, and the notices of commencement to manufacture a new chemical that the Agency has received under TSCA section 5 during this time period.

DATES: Comments identified by the specific PMN number or TME number, must be received on or before January 16, 2007.

ADDRESSES: Submit your comments, identified by docket identification (ID) no. EPA-HQ-OPPT-2006-0966, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2006-[insert Docket ID no.]. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2006-0966;. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, will be publicly available only in hard copy. Publicly available docket materials are available electronically at http://www.regulations.gov, or, if only available in hard copy, at the OPPT Docket, EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in the EPA West Building, located at 1301 Constitution Ave., NW., Washington, DC. The EPA/DC Public Reading Room is open from 8:30 a.m. to 4:30 p.m., Monday through Friday, excluding legal holidays. The telephone number of the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA web site at http://www.epa.gov/epahome/dockets.htm.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from September 18, 2006 to October 13, 2006, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 75 Premanufacture Notices Received From: 09/18/06 to 10/13/06
Case No. | Received Date | Projected Notice End Date | Manufacturer/Importer | Use | Chemical
P-06-0805 | 09/18/06 | 12/16/06 | Cytec Industries Inc. | (G) Mining chemical reagent | (G) Modified thiocarbamate
P-06-0806 | 09/18/06 | 12/16/06 | Clearwater International LLC d/b/a Weatherford Engineered Chemistry | (S) Flow enhancer and fines migration reduction of post slick water jobs (enhanced oil recovery); flow enhancer and fines migration reduction of post fracturing jobs (enhanced oil recovery); formation treatment of post stimulation jobs (enhanced oil recovery) | (G) Phosphate ester alkyl pyridine salt
P-06-0807 | 09/19/06 | 12/17/06 | CBI | (G) Textile colorant | (G) Substituted phenylazo naphthalenesulfonic acid
P-06-0808 | 09/18/06 | 12/16/06 | Xerox Corporation | (G) Open, non-dispersive use as a constituent in solid, crayon like inks for computer printers | (G) Polyamide resin
P-06-0809 | 09/20/06 | 12/18/06 | CBI | (G) Radiation cured coating | (G) Amine modified acrylic ester
P-06-0810 | 09/20/06 | 12/18/06 | Nation Ford Chemical Company | (S) Destructive use as chemical intermediate | (S) 2,5-cyclohexadiene-1,4-dione, 2,5-dichloro-3,6-bis[(9-ethyl-9h-carbazol-3-yl)amino]-
P-06-0811 | 09/20/06 | 12/18/06 | CBI | (S) Monomer for the synthesis of specialty polymer | (G) Substituted bicyclic olefin
P-06-0812 | 09/20/06 | 12/18/06 | CBI | (G) Surface treatment agent | (G) Fluoropolyether derivative fluoronated polyurethane resin
P-06-0813 | 09/19/06 | 12/17/06 | CBI | (G) Additive for pigment dispersion | (G) Poly (oxyalkanediyl) ,.alpha.,.alpha,′-carbomonocycledicarbonyl bis (.omega.-alkyloxy-)
P-06-0814 | 09/19/06 | 12/17/06 | CBI | (G) Additive for pigment dispersion | (G) Poly (oxyalkanediyl) , .alpha.,.alpha,′.alpha.′′-carbomonocycletricarbonyl tris (.omega.-alkyloxy-)
P-06-0815 | 09/19/06 | 12/17/06 | Nyco Minerals, Inc. | (S) Filter for thermoplastic resins | (S) 1,2-ethanediamine, N-[3-(trimethoxysilyl)propyl]-, hydrolysis products with wollastonite (ca(si03))
P-06-0816 | 09/21/06 | 12/19/06 | CBI | (G) Hydrophobic surface active agent for cellulosic substrates and similar materials | (G) Modified reaction products of alkyl alcohol, halogenated alkane, substituted epoxide, and amino compound
P-06-0817 | 09/22/06 | 12/20/06 | CBI | (S) Fluorescent brightener for use in cellulosic paper applications | (G) Substituted benzene sulfonic acid, salt reaction product with phenylamine and amino alcohol and substituted propaneamide compounds with amino alcohol
P-06-0818 | 09/22/06 | 12/20/06 | CBI | (G) Polymer for injection molding and extrusion | (G) Benzoic acid, 2,2′-[substituted]bis-, dimethyl ester, polymer with 1,4-benzenediol, (substituted) 1,4-benzenediol and 4,4′-(1-substituted)bis[phenol]
P-06-0819 | 09/22/06 | 12/20/06 | CBI | (G) Polymer for injection molding and extrusion | (G) Benzoic acid, 2,2′-[substituted]bis-, dimethyl ester, polymer with 1,4-benzenediol, and 4,4′ (substituted) bis[phenol]
P-06-0820 | 09/22/06 | 12/20/06 | CBI | (G) Contained use in energy production | (G) Trisubstituted triazine
P-06-0821 | 09/22/06 | 12/20/06 | CBI | (S) Reactive diluent in ultra violet formulations | (G) Alkoxylated pentaerythritol acrylate
P-06-0822 | 09/22/06 | 12/20/06 | CBI | (G) Acrylic binder | (G) Acrylic copolymer
P-06-0823 | 09/25/06 | 12/23/06 | CBI | (S) Aqueous dispersion of polymer for leather finishing | (G) Alkanedioic acid, polymer with alkanediol, carbocycledicarboxylic acid, carbocycle-isocyanato-(isocyanatoalkyl)-trialkyl-, carbocycle alkylenebis[isocyanato-, alkanoic acid, hydroxy-(hydroxyalkyl)-alkyl-, trialkylamine, and 1,2-alkyldiamine
P-06-0824 | 09/25/06 | 12/23/06 | CBI | (S) Aqueous dispersion of polymer for leather finishing | (G) 2-propenoic acid, polymer with cyanoalkene, alkenoic acid alkyl ester, alkylalkenamide, methylolmethacrylamide, and an alkenyl benzene
P-06-0825 | 09/25/06 | 12/23/06 | CBI | (S) Aqueous dispersion of polymer for leather finishing | (G) Oxepanone, polymer with dialkyl-alkanediol, alkyl-(hydroxyaalkyl)-alkanediol, carbocycle, isocyanato-(isocyanatoalkyll)-trialkyl-, alkanoic acid, hydroxy-(hydroxyalkyl)-alkyl-, alkylamine, N,N-dialkyl-, aminoalkyl-trialkylcarbocyclicamine, and alkyldiamine
P-06-0826 | 09/25/06 | 12/23/06 | CBI | (G) Stabilizer for emulsion polymers | (G) Seed-oil based surfactant
P-06-0827 | 09/26/06 | 12/24/06 | CBI | (G) Fuel additive | (G) Heterocycle amine, N-heterocycle, monoammonium salt
P-06-0828 | 09/27/06 | 12/25/06 | CBI | (G) Dispersive use in cooling water treatment | (G) Polyacrylate terpolymer salt
P-06-0829 | 09/27/06 | 12/25/06 | Archer Daniels Midland Company | (G) Petrochemical replacement | (S) Fatty acids, canola-oil, me esters
P-06-0830 | 09/27/06 | 12/25/06 | Archer Daniels Midland Company | (G) Petrochemical replacement | (S) Fatty acids, rape-oil, me esters
P-06-0831 | 09/27/06 | 12/25/06 | Archer Daniels Midland Company | (G) Petrochemical replacement | (S) Fatty acids, corn-oil, me esters
P-06-0832 | 09/27/06 | 12/25/06 | Archer Daniels Midland Company | (G) Petrochemical replacement | (S) Fatty acids, palm-oil, me esters
P-06-0833 | 09/27/06 | 12/25/06 | Archer Daniels Midland Company | (G) Petrochemical replacement | (S) Fatty acids, peanut-oil, me esters
P-06-0834 | 09/27/06 | 12/25/06 | Archer Daniels Midland Company | (G) Petrochemical replacement | (S) Fatty acids, linseed-oil, me esters
P-06-0835 | 09/28/06 | 12/26/06 | CBI | (G) Additive, open, non-dispersive use | (G) Polyester urethane copolymer
P-06-0836 | 09/28/06 | 12/26/06 | CBI | (G) Additive, open, non-dispersive use | (G) Polyester urethane copolymer
P-06-0837 | 09/28/06 | 12/26/06 | CBI | (G) Additive, open, non-dispersive use | (G) Polyester urethane copolymer
P-06-0838 | 09/28/06 | 12/26/06 | CBI | (G) Additive, open, non-dispersive use | (G) Polyester urethane copolymer
P-06-0839 | 09/29/06 | 12/27/06 | CBI | (G) Flame retardants for plastics and resins | (G) Phenoxyphosphazene oligomer
P-07-0001 | 10/02/06 | 12/30/06 | Mane, USA | (G) Perfumery ingredient | (G) Cilandrane
P-07-0002 | 10/03/06 | 12/31/06 | CBI | (G) Film forming aid for paint formulations; film forming aid for ink formulations | (G) Fatty acids, C16-C18 and C18 unsaturated, esters with mixed diols and triols
P-07-0003 | 10/03/06 | 12/31/06 | CBI | (G) Film forming aid for paint formulations; film forming aid for ink formulations | (G) Mixed polyol - glycerol fatty acid ester
P-07-0004 | 10/03/06 | 12/31/06 | CBI | (G) Film forming aid for paint formulations; film forming aid for ink formulations | (G) Mixed polyol - glycerol fatty acid ester
P-07-0005 | 10/03/06 | 12/31/06 | CBI | (G) Film forming aid for paint formulations; film forming aid for ink formulations | (G) Mixed polyol - glycerol fatty acid ester
P-07-0006 | 10/03/06 | 12/31/06 | CBI | (G) Film forming aid for paint formulations; film forming aid for ink formulations | (G) Mixed polyol - glycerol fatty acid ester
P-07-0007 | 10/03/06 | 12/31/06 | CBI | (G) Film forming aid for paint formulations; film forming aid for ink formulations | (G) Mixed polyol - glycerol fatty acid ester
P-07-0008 | 10/02/06 | 12/30/06 | Ashland Inc., Environmental Health and Safety | (G) Adhesive | (G) Benzene, 1,1′-methylenebis[4-isocyanato-, polymer with oxirane, methyl-, polymer with oxirane, ether with 1,2-propanediol; poly[oxy(methyl-1,2-ethanediyl)], .alpha., .alpha.′,.alpha.′′-1,2,3-propanetriyltris[.omega.-hydroxy-; hexanedioic acid, polymer with 2,2-dimethyl-1,3-propanediol, 2-ethyl-2-(hydroxymethyl)-1,3-propanediol, 1,6-hexanediol and 2,2′-oxybis[ethanol]; hydrocarbons, C9-unsaturated., polymers and phenol; and krasol
P-07-0009 | 10/04/06 | 01/01/07 | CBI | (S) Polyurethane coating | (G) Aqueous polyurethane dispersion
P-07-0010 | 10/04/06 | 01/01/07 | CBI | (G) Additive, open, non-dispersive use | (G) Styrene-maleic anhydride copolymer, reaction products with polyether, salt with alkanolamin
P-07-0011 | 10/04/06 | 01/01/07 | CBI | (G) Antioxidant | (G) Alkylated phenol
P-07-0012 | 10/04/06 | 01/01/07 | CBI | (S) Resin for inks, coatings and adhesives | (G) Ethanol capped polyether polyurethane
P-07-0013 | 10/05/06 | 01/02/07 | CBI | (G) Thermoplastic resin processing aid for rubber manufacture | (G) Alkylphenol novolak modified with amine and epoxy
P-07-0014 | 10/05/06 | 01/02/07 | CBI | (G) Radiation-curable wood, paper and metal coatings, such as wood varnishes, overprint varnishes for paper, and metal coatings | (G) Polyester polyurethane acrylate oligomer
P-07-0015 | 10/05/06 | 01/02/07 | CBI | (S) Reactive dye for cellulosic fibers | (G) Substituted naphthalenedisulfonic acid, substituted amino azo]-, sodium salt (same generic name for both isomers)
P-07-0016 | 10/06/06 | 01/03/07 | Croda Inc. | (G) Fabric care softening agent | (G) Hydrolyzed wheat silicone copolymer
P-07-0017 | 10/06/06 | 01/03/07 | CBI | (G) Siloxane parts of this new material have water repellent effect and hydroxy or alkoxy group of this new material reacts with surface of frame retardant materials to make water repellent coating | (G) Aminoalkoxysiloxane, acetates (salts)
P-07-0018 | 10/06/06 | 01/03/07 | Ashland Inc., Environmental Health and Safety | (G) Fiberglass reinforced boat hulls | (G) 1,3-propanediol, 2,2-dimethyl-, polymer with cycloalkyl diisocyanate, 2,2-bis[(2-propenyloxy)methyl]-1-butanol-blocked
P-07-0019 | 10/06/06 | 01/03/07 | Ashland Inc., Environmental Health and Safety | (G) Fiberglass reinforced boat hulls | (G) 1,2-ethanediol, polymer with cycloalkyl diisocyanate, 2,2-bis[(2-propenyloxy)methyl]-1-butanol-blocked
P-07-0020 | 10/06/06 | 01/03/07 | Ashland Inc., Environmental Health and Safety | (G) Fiberglass reinforced boat hulls | (G) Poly(oxy-1,2-ethanediyl), .alpha.-hydro-.omega.-hydroxy-, polymer with cycloalkyl diisocyanate, 2,2′-bis[(2-propenyloxy)methyl]-1-butanol-blocked
P-07-0021 | 10/10/06 | 01/07/07 | CIBA Specialty Chemicals Corporation | (S) Flame retardant for polymers | (G) Phenol, 2,4-bis(1,1-branched alkyl)-, phosphate (3:1)
P-07-0022 | 10/10/06 | 01/07/07 | CBI | (S) Polyurethane coating | (G) Aqueous polyurethane dispersion
P-07-0023 | 10/10/06 | 01/07/07 | CBI | (S) Polyurethane coating | (G) Aqueous polyurethane dispersion
P-07-0024 | 10/10/06 | 01/07/07 | CBI | (S) Emulsifier for oilfield application | (G) Alkylamine ethoxylated
P-07-0025 | 10/10/06 | 01/07/07 | CBI | (G) Contained use in energy production | (G) Alkyl ether trialkyl quaternary ammonium compound
P-07-0026 | 10/10/06 | 01/07/07 | CBI | (G) Contained use in energy production | (G) Alkyl ether trialkyl quaternary ammonium compound
P-07-0027 | 10/11/06 | 01/08/07 | CBI | (S) A component in ultraviolet -, visible light and electron beam curable formulations | (G) Dicarboxylic based acid, polymer with a dicarboxylate, 2-ethyl-2-(hydroxymethyl)-1,3-propanediol and 2-methyl-1,3-propanediol, 2-propenoate
P-07-0028 | 10/12/06 | 01/09/07 | CBI | (G) Open, non-dispersive (resin) | (G) Diphenolmethyl based polymer resin
P-07-0029 | 10/13/06 | 01/10/07 | CBI | (S) Electrodeposition coating for metallic substrates | (G) Amine functional epoxy based resin salted with an organic acid and grafted with anhydride
P-07-0030 | 10/13/06 | 01/10/07 | CBI | (S) Electrodeposition coating for metallic substrates | (G) Amine functional epoxy based resin salted with an organic acid and grafted with anhydride
P-07-0031 | 10/13/06 | 01/10/07 | CBI | (S) Electrodeposition coating for metallic substrates | (G) Amine functional epoxy based resin salted with an organic acid and grafted with anhydride
P-07-0032 | 10/13/06 | 01/10/07 | CBI | (S) Electrodeposition coating for metallic substrates | (G) Amine functional epoxy based resin salted with an organic acid and grafted with anhydride
P-07-0033 | 10/13/06 | 01/10/07 | CBI | (S) Electrodeposition coating for metallic substrates | (G) Amine functional epoxy based resin salted with an organic acid and grafted with anhydride
P-07-0034 | 10/13/06 | 01/10/07 | CBI | (S) Electrodeposition coating for metallic substrates | (G) Amine functional epoxy based resin salted with an organic acid and grafted with anhydride
P-07-0035 | 10/12/06 | 01/09/07 | CBI | (G) Polymeric binder | (G) Methacrylate copolymer
P-07-0036 | 10/12/06 | 01/09/07 | CBI | (G) Polymeric binder | (G) Methacrylate copolymer
P-07-0037 | 10/13/06 | 01/10/07 | Piedmont Chemical Industries I, LLC | (S) Binder resin for polyester fabric knit and nonwoven; binder resin for mattress ticking polyester/polypropylene knit; binder resin for nylon strapping | (S) 1,3-benzenedicarboxylic acid, polymer with 1,4-benzenedicarboxylic acid, 1,3-dihydro-1,3-dioxo-5-isobenzofurancarboxylic acid, dimethyl 1,4-benzenedicarboxylate, 1,2-ethanediol and 2,2′-oxybis[ethanol], ammonium salt
P-07-0038 | 10/13/06 | 01/10/07 | Piedmont Chemical Industries I, LLC | (S) Binder resin for polyester fabric knit and nonwoven; binder resin for mattress ticking polyester/polypropylene knit; binder resin for nylon strapping | (S) 1,3-benzenedicarboxylic acid, polymer with 1,4-benzenedicarboxylic acid, 1,3-dihydro-1,3-dioxo-5-isobenzofurancarboxylic acid, 2,2′-oxybis[ethanol] and 1,3-propanediol, ammonium salt
P-07-0039 | 10/13/06 | 01/10/07 | Piedmont Chemical Industries I, LLC | (S) Binder resin for polyester fabric knit and nonwoven; binder resin for mattress ticking polyester/polypropylene knit; binder resin for nylon strapping | (S) 1,3-benzenedicarboxylic acid, polymer with 1,4-benzenedicarboxylic acid, 1,4-butanediol, 1,3-dihydro-1,3-dioxo-5-isobenzofurancarboxylic acid, dimethyl 1,4-benzenedicarboxylate and 2,2′-oxybis[ethanol], ammonium salt
P-07-0040 | 10/13/06 | 01/10/07 | Piedmont Chemical Industries I, LLC | (S) Binder resin for polyester fabric knit and nonwoven; binder resin for mattress ticking polyester/polypropylene knit; binder resin for nylon strapping | (S) 2,6-naphthalenedicarboxylic acid, dimethyl ester, polymer with 1,3-benzenedicarboxylic acid, 1,4-benzenedicarboxylic acid, 1,3-dihydro-1,3-dioxo-5-isobenzofurancarboxylic acid, 1,2-ethanediol and 2,2′-oxybis[ethanol], ammonium salt

In Table II of this unit, EPA provides the following information (to the extent that such information is not claimed as CBI) on the Notices of Commencement to manufacture received:

II. 19 Notices of Commencement From: 09/18/06 to 10/13/06
Case No. | Received Date | Commencement Notice End Date | Chemical
P-03-0837 | 09/21/06 | 09/07/06 | (G) Aliphatic polyisocyanate
P-05-0048 | 09/18/06 | 02/28/05 | (G) Phthalocyanine compound
P-05-0484 | 04/07/06 | 03/09/06 | (G) Polyoxyethylene polyxoxypropylene polymer, reaction with cyclohexylmethane diisocyanate and polyoxyphenyl derivative
P-05-0551 | 04/07/06 | 03/09/06 | (G) Polyalkylene glycol alkyl ether, reaction products with allyl glycidyl ether
P-05-0694 | 04/07/06 | 03/09/06 | (G) Polyalkylene glycol aryl ether, reaction products with formaldehyde
P-06-0092 | 04/07/06 | 03/09/06 | (G) Oxirane,methyl-, polymer with oxirane, fatty acid alkyl ethers
P-06-0176 | 09/25/06 | 09/05/06 | (G) Acrylate ester
P-06-0196 | 09/26/06 | 08/01/06 | (G) Tdi prepolymer based on hybrid caprolactone polyol
P-06-0200 | 09/21/06 | 09/12/06 | (G) Hydroxy carboxylic acid amide, N,N-dialkyl derivates
P-06-0272 | 09/27/06 | 09/05/06 | (G) Alkylenedicarboxylic dichloride, polymer with dihydroxybenzene
P-06-0288 | 09/27/06 | 09/18/06 | (G) Hydroxylated diester of a triamine
P-06-0366 | 09/18/06 | 09/08/06 | (G) Isocyanate functional polyester polyether urethane polymer
P-06-0448 | 09/18/06 | 09/07/06 | (G) Fatty acid salt of alkyldiamine
P-06-0463 | 08/17/06 | 07/29/06 | (S) Borate(1-), bis [ethanedioato (2-)- .kappa. 01, .kappa. 02] -lithium, (t-4)-
P-06-0535 | 09/21/06 | 08/22/06 | (G) Ester urethane
P-06-0539 | 09/19/06 | 08/22/06 | (G) Methyl propylhexanol
P-06-0543 | 09/19/06 | 08/22/06 | (G) Methyl propylhexanol
P-06-0596 | 09/15/06 | 09/07/06 | (S) 1h-indene, 2,3,3a,4,5,7a-hexahydro-1,1,2,3,3-pentamethyl-6-(2-propenyl)- 2h-indeno[4,5-b]furan, decahydro-2,6,6,7,8,8-hexamethyl-
P-06-0606 | 09/27/06 | 09/13/06 | (S) 1-propanamine, 3-(triethoxysilyl)-, reaction products with boehmite (al(oh)o)

List of Subjects

Environmental protection, Chemicals, Premanufacturer notices.

Dated: December 7, 2006.
Bernice Mudd,
Acting Director, Information Management Division, Office of Pollution Prevention and Toxics.

[FR Doc. E6-21425 Filed 12-14-06; 8:45 am]

BILLING CODE 6560-50-S